NUCLEAR REGULATORY COMMISSION

[Docket No. 50-309-OLA; ASLBP No. 00-780-03-OLA]

Maine Yankee Atomic Power Company; Establishment of Atomic Safety and Licensing Board

Pursuant to delegation by the Commission dated December 29, 1972, published in the Federal Register, 37 FR 28,710 (1972), and Sections 2.105, 2.700, 2.702, 2.714, 2.714a, 2.717, 2.721 of the Commission's Regulations, all as amended, an Atomic Safety and Licensing Board is being established to preside over the following proceeding.

Maine Yankee Atomic Power Company

Maine Yankee Atomic Power Station

This Board is being established pursuant to a notice of consideration of issuance of amendment to facility operating license, proposed no significant hazards consideration determination, and opportunity for a hearing published by the Commission on May 17, 2000, in the Federal Register (65 FR 31,354, 31,357). The January 13, 2000 license amendment request at issue would add a license condition that requires Maine Yankee Atomic Power Company to implement and maintain in effect all provisions of the License Termination Plan. Two petitioners, Friends of the Coast—Opposing Nuclear Pollution and the State of Maine, seek to intervene and request a hearing regarding the amendment request.

The Board is comprised of the following administrative judges:

Thomas S. Moore, Chairman, Atomic Safety and Licensing Board Panel, U.S. Nuclear Regulatory Commission, Washington, D.C. 20555

Thomas D. Murphy, Atomic Safety and Licensing Board Panel, U.S. Nuclear Regulatory Commission, Washington, D.C. 20555

Dr. Thomas S. Elleman, Atomic Safety and Licensing Board Panel, U.S. Nuclear Regulatory Commission, Washington, D.C. 20555

All correspondence, documents and other materials shall be filed with the Judges in accordance with 10 C.F.R. § 2.701.

Issued at Rockville, Maryland, this 7th day of July 2000.
G. Paul Bollwerk, III,
Chief Administrative Judge, Atomic Safety and Licensing Board Panel.

[FR Doc. 00-17782 Filed 7-12-00; 8:45 am]

BILLING CODE 7590-01-P